DEPARTMENT OF JUSTICE

Notice of Proposed Settlement Agreement Under the Oil Pollution Act of 1990 [33 U.S.C. 2701 et seq.]

Notice is hereby given that the United States Department of Justice, on behalf of the United States Department of Interior Fish and Wildlife Service, and the California Department of Fish and Game, the California Regional Water Quality Control Board, Lahontan Region, the Nevada Division of Environmental Protection, and the Nevada Department of Wildlife and Advanced Fuel Filtration Systems, Inc. have reached a settlement regarding claims for injuries to natural resources arising from an oil spill into the East Walker River.

The five government agencies who are parties to the settlement are acting in their capacities as designated natural resource trustees under the Oil Pollution Act of 1990, 33 U.S.C. 2701, et seq. to recover damages for natural resources, as authorized by 33 U.S.C. 2702(b)(2)(A). The oil spill occurred on De ember 30, 2000 when a tank truck operated by Advanced Fuel Filtration Systems overturned near Bridgeport, California and spilled approximately 6100 gallons of fuel oil.

Under the proposed settlement agreement, Advanced Fuel Filtration Systems will pay $350,000 to the Natural Resource Damage Assessment and Restoration Fund, established by 43 U.S.C. 1474b, to be used by the natural resource trustee agencies to restore, rehabilitate or acquire the equivalent of, those resources injured by the spill and to compensate the public for lost recreational opportunities. It will also pay to the California Department of Fish and Game $68,000 for reimbursement of past assessment costs. It has previously paid to the United States Department of the Interior $50,000 for assessment costs.

The Department of Justice will receive for a period of thirty (30) days from the date of this publication comments relating to the Settlement Agreement. Comments should be addressed to the Assistant Attorney General, Environment and Natural Resources Division, P.O. Box 7611, U.S. Department of Justice, Washington, DC 20044-7611, and should refer to the Settlement Agreement Among the United States Department of the Interior, et al., and Advanced Fuel Filtration Systems, DJ # 90-5-1-1-08070. The Settlement Agreement may be examined at the U.S. Fish and Wildlife Service, 1340 Financial Blvd., Suite 234, Reno, Nevada (contact Damian Higgins, 775-861-6300). During the public comment period, the Settlement Agreement may also be examined on the following Department of Justice Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $1.75 (25 cents per page reproduction cost) payable to the U.S. Treasury.

Ellen M. Mahan,
Assistant Section Chief, Environmental, Enforcement Section, Environment & Natural Resources Division.

[FR Doc. 04-1418 Filed 1-22-04; 8:45 am]

BILLING CODE 4410-15-M